DEPARTMENT OF HOMELAND SECURITY

Coast Guard

33 CFR Part 117

[Docket No. USCG-2015-0974]

Drawbridge Operation Regulation; Des Allemands Bayou, Des Allemands, LA

AGENCY: Coast Guard, DHS.

ACTION: Delay of effective date without notice for temporary deviation from regulations.

SUMMARY: The Coast Guard is modifying the effective dates of a published temporary deviation from the operating schedule that governs the Burlington Northern Santa Fe Railroad swing span drawbridge across Des Allemands Bayou, mile 14.0, at Des Allemands, St. Charles and Lafourche Parishes, Louisiana. This modification of the dates is necessary due to weather delaying the scheduled rehabilitations. This deviation allows the bridge to remain in its closed-to-navigation position for three eight-hour periods during three consecutive days on two separate occasions.

DATES: The deviation published December 11, 2015 (80 FR 76860) is effective from 7 a.m. on January 20, 2016 through 3 p.m. on January 29, 2016.

ADDRESSES: The docket mentioned in the preamble as being available in the docket are part of the docket USCG-2015-0974 and are available at http://www.regulations.gov. Type the docket number in the “SEARCH” box and click “SEARCH”. Click on Open Docket Folder on the line associated with this deviation.

FOR FURTHER INFORMATION CONTACT: If you have questions on this temporary deviation, call or email Donna Gagliano, Bridge Specialist, Coast Guard; telephone 504-671-2128, email Donna.Gagliano@uscg.mil.

SUPPLEMENTARY INFORMATION: On December 11, 2015, the Coast Guard published a notice of temporary deviation from regulations entitled, “Drawbridge Operation Regulation; Des Allemands Bayou, Des Allemands, LA” in the Federal Register (80 FR 76860). The Burlington Northern Santa Fe Railroad requested this temporary deviation from the operating schedule of the swing span drawbridge across Des Allemands Bayou, mile 14.0, at Des Allemands, St. Charles and Lafourche Parishes, Louisiana, for January 13 through 22, 2016, to perform the rehabilitation. Due to the weather issues, preparations for the rehabilitation were delayed so Burlington Northern Santa Fe Railroad requested a modification to the effective dates from January 20 through 29, 2016.

The bridge has a vertical clearance of three feet above mean high water in the closed-to-navigation position and unlimited in the open-to-navigation position.

The draw currently operates under 33 CFR 117.440(b). For purposes of this deviation, the bridge will not be required to open from 7 a.m. to 3 p.m. daily for two three-day periods, January 20 through 22 and January 27 through 29, 2016. At all other times, the bridge will operate in accordance with 33 CFR 117.440(b).

The Burlington Northern Santa Fe Railroad requested a modification to the effective dates of the temporary deviation for the operation of the drawbridge to delay the previously approved deviation to accommodate rehabilitation work involving rest pivot piers and the future swing span change out, an extensive but necessary maintenance operation. The reason for the request is that poor weather has delayed the preparatory work necessary to accomplish the modification to the rest piers. Navigation on the waterway consists of tugs with tows, fishing vessels and recreational crafts.

The Coast Guard has coordinated the closure with waterway users, industry, and other Coast Guard units and determined that this closure will not have a significant effect on vessel traffic.

During this deviation for bridge rehabilitation, vessels will not be allowed to pass through the bridge during the eight-hour closures each day as stated above. Many of the vessels that currently require an opening of the draw will be able to pass using the opposite channel from 3 p.m. to 7 a.m. when the deviations are not in effect. The bridge will not be able to open for emergencies and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: December 24, 2015.
David M. Frank,
Bridge Administrator, Eighth Coast Guard District.

[FR Doc. 2015-32871 Filed 12-29-15; 8:45 am]

BILLING CODE 9110-04-P